DEPARTMENT OF HEALTH AND HUMAN SERVICES

Office of the National Coordinator for Health Information Technology; HIT Standards Committee's Implementation Workgroup Meeting; Notice of Meeting

AGENCY: Office of the National Coordinator for Health Information Technology, HHS.

ACTION: Notice of meeting.

This notice announces a forthcoming meeting of a public advisory subcommittee of the Office of the National Coordinator for Health Information Technology (ONC). The meeting will be open to the public.

Name of Committee: HIT Standards Committee's Implementation Workgroup.

General Function of the Committee: To provide recommendations to the National Coordinator on standards, implementation specifications, and certification criteria for the electronic exchange and use of health information for purposes of adoption, consistent with the implementation of the Federal Health IT Strategic Plan, and in accordance with policies developed by the HIT Policy Committee. The Implementation Workgroup is charged with benchmarking adoption rates for proposed standards across diverse settings; soliciting public input on what stakeholders need to lower the barriers to standards adoption; evaluating the degree to which proposed standards achieve policy objectives; and establishing an ongoing process to gather public input to inform future standards development, revisions to existing standards, or guidance on tools to minimize the cost of adoption.

Date and Time: The meeting will be held on October 29, 2009, from 9 a.m. to 3 p.m./Eastern Time.

Location: The Omni Shoreham Hotel, 2500 Calvert Street, NW., Washington, DC. The hotel telephone number is 202-234-0700.

Contact Person: Judy Sparrow, Office of the National Coordinator, HHS, 330 C Street, SW., Washington, DC 20201, 202-205-4528, Fax: 202-690-6079, e-mail: judy.sparrow@hhs.gov. Please call the contact person for up-to-date information on this meeting. A notice in the Federal Register about last minute modifications that impact a previously announced advisory committee meeting cannot always be published quickly enough to provide timely notice.

Agenda: The Implementation Workgroup will be hearing testimony from stakeholder groups, such as purchasers, vendors, and users, on health information technology adoption experiences with the proposed standards. The Workgroup intends to monitor the adoption rate of proposed standards, identify opportunities to accelerate implementation, and establish a continuous feedback loop on the development of new or revised standards.

In addition to soliciting verbal and formal written comments at the hearing, the Workgroup will use a Web-based tool to engage the public. The ONC is setting up a Web-based tool to engage the public in the topic; please visit the ONC Web site closer to the meeting date for additional information.

ONC intends to make background material available to the public no later than two (2) business days prior to the meeting. If ONC is unable to post the background material on its Web site prior to the meeting, it will be made publicly available at the location of the advisory subcommittee meeting, and the background material will be posted on ONC's Web site after the meeting, at http://healthit.hhs.gov. The meeting will be available via Webcast; visit http://healthit.hhs.gov for instructions on how to listen via telephone or Web.

Procedure: Interested persons may present data, information, or views, orally or in writing, on issues pending before the committee. Written submissions may be made to the contact person from October 29th until November 12, 2009. Oral comments from the pubic will be scheduled at the close of the meeting on October 29, 2009. Time allotted for each presentation may be limited. If the number of speakers requesting to comment is greater than can be reasonably accommodated during the scheduled open public hearing session, ONC will take written comments after the meeting until close of business on that day.

Persons attending Committee meetings are advised that the agency is not responsible for providing access to electrical outlets.

ONC welcomes the attendance of the public at its advisory committee meetings. Seating is limited at the location, and ONC will make every effort to accommodate persons with physical disabilities or special needs. If you require special accommodations due to a disability, please contact Judy Sparrow at least seven (7) days in advance of the meeting.

ONC is committed to the orderly conduct of its advisory committee meetings. Please visit our Web site at http://healthit.hhs.gov for procedures on public conduct during advisory committee meetings.

Notice of this meeting is given under the Federal Advisory Committee Act (Pub. L. 92-463, 5 U.S.C., App. 2).

Dated: October 13, 2009.
Judith Sparrow,
Office of Programs and Coordination, Office of the National Coordinator for Health Information Technology.

[FR Doc. E9-25051 Filed 10-14-09; 4:15 pm]

BILLING CODE 4150-45-P